DEPARTMENT OF DEFENSE

Office of the Secretary

[Docket No. DOD-2010-DARS-0011]

Submission for OMB Review; Comment Request

ACTION: Notice.

The Department of Defense has submitted to OMB for clearance, the following proposal for collection of information under the provisions of the Paperwork Reduction Act (44 U.S.C. Chapter 35).

DATES: Consideration will be given to all comments received by March 8, 2010.

Title, Associated Forms and OMB Number: Defense Federal Acquisition Regulation Supplement (DFARS) Part 242, Contract Administration and Audit Services, and related clauses in DFARS Part 252; DD Form 1659, Application for U.S. Government Shipping Documentation/Instructions; OMB Control Number 0704-0250.

Type of Request: Extension.

Number of Respondents: 15,049.

Responses per Respondent: 7.037.

Annual Responses: 105,898.

Average Burden per Response: 2.6059 hours.

Annual Burden Hours: 275,960 hours.

Needs and Uses: DoD needs this information to perform contract administration functions. DoD uses the information as follows:

a. Contract administration offices use the information required by DFARS Subpart 242.11 to determine contractor progress and to identify any factors that may delay contract performance.

b. Administrative contracting officers use the information required by DFARS Subpart 242.73 to determine the allowability of insurance/pension costs under Government contracts.

c. Contract administration offices and transportation officers use the information required by DFARS 252.242-7003, and submitted on DD Form 1659, in providing Government bills of lading to contractors.

d. Contracting officers use the information required by DFARS 252.242-7004 to determine if contractor material management and accounting systems conform to established DoD standards.

Affected Public: Business or other for-profit; not-for-profit institutions.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: January 26, 2010.
Patricia L. Toppings,
OSD Federal Register Liaison Officer, Department of Defense.

[FR Doc. 2010-2451 Filed 2-4-10; 8:45 am]

BILLING CODE 5001-06-P